DEPARTMENT OF ENERGY

National Nuclear Security Administration; Notice of Intent To Prepare a Site-Wide Environmental Impact Statement for Continued Operation of Sandia National Laboratories, New Mexico

AGENCY: National Nuclear Security Administration, Department of Energy.

ACTION: Notice of intent.

SUMMARY: The National Nuclear Security Administration (NNSA), a semi-autonomous agency within the United States (U.S.) Department of Energy (DOE), announces its intent to prepare a new Site-Wide Environmental Impact Statement (SWEIS) for the Continued Operation of Sandia National Laboratories, New Mexico (SNL/NM SWEIS; DOE/EIS-0556). NNSA will prepare the SNL/NM SWEIS in accordance with the National Environmental Policy Act of 1969 (NEPA), and the Council on Environmental Quality (CEQ) and DOE regulations implementing NEPA. The SNL/NM SWEIS will analyze the potential environmental impacts of the reasonable alternatives for continuing operations of SNL/NM for approximately the next 15 years. While SNL has operations outside of New Mexico, the SNL/NM SWEIS is limited to activities at SNL/NM within the Kirtland Air Force Base (KAFB) and the Albuquerque area. The purpose of this Notice is to encourage public participation in the SNL/NM SWEIS process and to invite comments on the scope of analysis, including the range of alternatives, associated actions, and environmental issues that should be considered in the SNL/NM SWEIS. Following completion of the SNL/NM SWEIS, NNSA will issue a Record of Decision (ROD) announcing any decisions associated with the SNL/NM SWEIS.

DATES: NNSA invites federal agencies, tribes, state and local governments, industry, organizations, public interest groups, local businesses, and members of the general public to submit comments on the scope of the SNL/NM SWEIS through June 5, 2023 (the Comment Period). NNSA will consider all comments on the scope of the SNL/NM SWEIS received or postmarked during the Comment Period. Comments received or postmarked after the Comment Period ends will be considered to the extent practicable. NNSA will accept public comments on the proposed scope of the SNL/NM SWEIS in written and verbal form, and it will give equal weight to comments provided by either method. NNSA will conduct two public scoping meetings at which verbal comments may be provided, including one in-person meeting with a virtual link for listen-in only and one virtual meeting, scheduled as follows:

• In-person Meeting: Tuesday, May 9, 2023; 6:30-8:50 p.m., Mountain Daylight Time, preceded by a poster session starting at 5:30 p.m., at the New Mexico Veterans Memorial, Museum & Conference Center, 1100 Louisiana Blvd. SE, Albuquerque, NM 87108. Listen-in for May 9: https://www.zoomgov.com/j/1618755753, toll-free 833-568-8864, Meeting ID: 161 875 5753.

• Virtual Meeting: Thursday, May 11, 2023, 6:30-8:50 p.m., Mountain Daylight Time, Listen-in and Participation for May 11: https://www.zoomgov.com/j/1608652437, toll-free 833-568-8864, Meeting ID: 160 865 2437.

• Further information about the public scoping meetings, including any changes in dates, places, or times, will be posted on the NNSA NEPA Reading Room website at: https://www.energy.gov/nnsa/nnsa-nepa-reading-room.

ADDRESSES: Written comments on the scope of the SNL/NM SWEIS or requests for information related to the SNL/NM SWEIS may be sent via postal mail to SNL/NM SWEIS Comments, National Nuclear Security Administration, Sandia Field Office, P.O. Box 5400, Albuquerque, NM 87185, or by email to: SNL-SWEIS@nnsa.doe.gov. Before including your address, phone number, email address, or other personally identifiable information in your comment, please be advised that your entire comment—including your personally identifiable information—might be made publicly available. If you wish for NNSA to withhold your name and/or other personally identifiable information, please state this prominently at the beginning of your comment. You may submit comments anonymously.

FOR FURTHER INFORMATION CONTACT: For further information about this Notice, please contact Dr. Adria Bodour, NEPA Compliance Officer, Sandia Field Office, by postal mail at National Nuclear Security Administration, Sandia Field Office, P.O. Box 5400, Albuquerque, NM 87185, by phone (505) 845-6314, or by email at SNL-SWEIS@nnsa.doe.gov or adria.bodour@nnsa.doe.gov. This Notice, related NEPA documents, and additional information about the NEPA process are available on the NNSA NEPA Reading Room website at: https://www.energy.gov/nnsa/nnsa-nepa-reading-room. Information will also be posted on the SNL/NM website at: https://www.sandia.gov/about/environment.

SUPPLEMENTARY INFORMATION:

Background

SNL/NM is managed and operated as a Federally Funded Research and Development Center (FFRDC), as defined in Federal Acquisition Regulation 35.017, and a national security laboratory, as defined by 50 U.S.C. 2471, whose multidisciplinary research capabilities, tools, and teams of experts focus on the nation's priorities in science, energy, and national security. The purpose of FFRDCs is to bring scientific and technical expertise to bear on pressing national challenges. SNL personnel participate in the formal annual weapons certification process of the nuclear weapons stockpile. Through routine surveillance of the systems and annual stockpile assessment, weapons issues that could lead to future performance degradation, such as aging effects, are discovered and addressed. SNL/NM personnel also focus on developing technologies to sustain, modernize, and protect the nuclear arsenal; prevent the spread of weapons of mass destruction; defend against terrorism; protect the national infrastructure; ensure stable energy and water supplies; and provide new capabilities to the Department of Defense.

SNL personnel also perform research and development in science, technology, and engineering programs. SNL/NM operations are primarily sponsored by NNSA, but SNL personnel also do work for other governmental agencies and partner with a wide variety of entities.

SNL/NM is located within KAFB to the southeast of Albuquerque, NM. KAFB spans approximately 50,000 acres located at the foothills of the Manzano Mountains. The SNL/NM campus covers approximately 16,000 acres on KAFB and contains approximately 900 buildings with approximately seven million square feet. The SNL/NM eastern boundary is U.S. Forest Service land, and the southern boundary is Pueblo of Isleta land. The new SNL/NM SWEIS will analyze SNL/NM operations within KAFB and the City of Albuquerque area where SNL/NM has leased facilities. SNL/NM contains five secure technical areas on DOE fee-owned land as well as buildings and structures on properties permitted from KAFB, including Coyote Test Field, National Solar Thermal Test Facility, Robotic Vehicle Range, remote testing sites, and others.

SNL/NM currently operates under a SWEIS issued in 1999, Final Site-Wide EIS for Sandia National Laboratories, New Mexico (1999 SNL/NM SWEIS; DOE/EIS-0281), its four supplement analyses (SAs) (DOE/EIS-0281-SA-01, 2001; DOE/EIS-0281-SA-02, 2002; DOE/EIS-0281-SA-03, 2004; and DOE/EIS-0281-SA-04, 2006), and other project-specific NEPA documents.

The 1999 SNL/NM SWEIS examined existing and potential impacts to the environment from ongoing and anticipated future NNSA operations conducted over approximately a 10-year period for SNL/NM operations within and around KAFB. Since issuance of the 1999 SNL/NM SWEIS and its associated ROD (64 FR 69996; December 15, 1999), SNL/NM operations have evolved and additional information about the SNL/NM environmental setting has become available. Security requirements have also evolved in response to changes in recognized threats.

An SA is a document prepared pursuant to DOE NEPA regulations (10 CFR 1021.314(c)) to determine whether a supplemental or new EIS should be prepared, or whether no further NEPA documentation is required. Three of the four SNL/NM SAs based on the 1999 SNL/NM SWEIS dealt with implementing new or changed operations and replacing facilities; the fourth SA (DOE/EIS-028-SA-04, August 2006), prepared pursuant to 10 CFR 1021.330(d), assessed whether potential environmental impacts from site operations remained within those projected in the 1999 SNL/NM SWEIS for the level of operations selected in the ROD. Based on each of these SAs, NNSA determined that a new SWEIS was not necessary.

Subsequently, given the length of time since the previous SWEIS was issued, new information, and the evolution of mission needs, NNSA determined that preparation of a new SWEIS was appropriate. On June 24, 2011, NNSA issued a notice of intent (NOI) to prepare a new SWEIS for SNL/NM (76 FR 37100). NNSA's completion of that SWEIS, however, was delayed by competing program and resource priorities. Since the NOI was issued in 2011, mission needs have continued to evolve and further information has become available. Consequently, NNSA has now determined that preparation of a new SWEIS with a fresh scoping process would best serve the purposes of NEPA by providing NNSA and the public with the most current environmental and programmatic information. Accordingly, NNSA has administratively canceled the SWEIS originally announced in 2011 and will prepare a new SWEIS, DOE/EIS-0556.

Purpose and Need for Agency Action

The purpose and need for continued operation of SNL/NM has not changed from those identified in the 1999 SNL/NM SWEIS and continues to include supporting NNSA and other DOE missions as directed by Congress and the President. Currently, facilities and capabilities that support many NNSA and other DOE mission priorities are found only at SNL/NM. NNSA needs to continue SNL/NM operations to meet its core mission requirements. A further purpose of the continued operation of SNL/NM is to provide capabilities available at the site in support of strategic partnership projects, under which SNL/NM oversees national security-related research, development, and testing programs, and conducts work for other entities, including other federal and state government agencies, industry, and academic institutions.

SNL/NM operations support the following NNSA mission priorities: (1) to enhance U.S. national security through the military application of nuclear energy, (2) to maintain and enhance the safety, reliability, and performance of the U.S. nuclear weapons stockpile, including the ability to design, produce, and test, in order to meet national security requirements, (3) to promote international nuclear safety and nonproliferation, (4) to reduce global danger from weapons of mass destruction; and (5) to support U.S. leadership in science and technology (50 U.S.C. 2401).

SNL/NM operations support NNSA national security objectives through the engineering of nuclear weapons components and other nuclear and non-nuclear activities. NNSA missions for SNL/NM have evolved over time in response to national needs, and NNSA expects that evolution will continue for the foreseeable future. NNSA, on behalf of the U.S. Government, requires SNL/NM management and operating contractor to continue providing support for NNSA mission lines, programs, and projects in national security, energy resources, environmental quality, and science and technology. SNL personnel maintain specific core competencies in activities associated with research, development, design, and surveillance of nuclear weapons; supports the assessment and certification of their safety, reliability, and performance; and produces components for the stockpile. The continued operation of SNL/NM is critical to NNSA's ability to meet its missions.

SNL/NM operations also include non-weapons research and science services in multiple areas, including waste management, environmental restoration, hazardous and radioactive material transportation, energy efficiency and renewable energy, nuclear energy, fossil energy, magnetic fusion, basic energy sciences, supercomputing, and biological and environmental research. SNL/NM operations are needed to support other important DOE missions, including energy security and long-term energy needs, transportation research and development, homeland infrastructure security and resiliency, and advanced science and technology. Much of the same infrastructure used to support national security supports these other missions.

Preliminary Alternatives

The scoping process is an opportunity for the public to assist NNSA in determining the alternatives, issues, and analyses that should be included in the SNL/NM SWEIS. NNSA welcomes specific comments or suggestions on the content of these alternatives or on other alternatives that should be considered. NNSA has identified a preliminary set of alternatives and issues for evaluation in the SNL/NM SWEIS below; during the development of the SWEIS, NNSA could identify and include other reasonable alternatives.

No-Action Alternative

Under the No-Action Alternative, current operations throughout SNL/NM that support currently assigned missions would continue. NEPA regulations require analysis of the No-Action Alternative to provide a benchmark for comparison with the environmental effects of action alternatives. This alternative represents maintaining the status quo and would include the programs and activities for which NEPA reviews have been completed and decisions have been made.

Modernized Operations Alternative

Under the Modernized Operations Alternative, existing programs and activities would continue and be supported by modernizing facilities. This alternative includes the scope of the No-Action Alternative, as described above, plus additional modernization activities. This alternative includes (1) construction of replacement facilities, (2) upgrades to existing facilities and infrastructure, and (3) decontamination, decommissioning, and demolition (DD&D) projects. Under this alternative, NNSA would replace facilities that are approaching their end-of-life, upgrade facilities to extend their lifetimes, and improve work environments to enable NNSA to meet operational requirements. The alternative would also include projects that would reduce the carbon footprint of operations and/or are net zero initiatives. The proposed DD&D of older facilities would eliminate excess facilities and reduce costs and risks. This alternative would not expand capabilities and operations at SNL/NM beyond those that currently exist. Examples of projects that will likely be proposed and analyzed in the SNL/NM SWEIS under this alternative include: (1) Neutron Generator Enterprise Consolidation, which would consolidate operations from existing facilities into a new facility that would have improved workflow; and (2) Weapons Component Engineering Capability, which would consolidate capabilities from existing facilities into a new facility.

Expanded Operations Alternative (NNSA's Preferred Alternative)

The Expanded Operations Alternative would include the modernization actions included in the Modernized Operations Alternative, as described above. This alternative would expand operations and missions to respond to future national security challenges and meet increasing requirements. This alternative includes (1) construction and operation of new facilities and (2) upgrades to existing facilities that result in changing the nature and capabilities of these facilities. This alternative would expand capabilities at SNL/NM beyond those that currently exist. Examples of projects that will likely be proposed and analyzed in the SNL/NM SWEIS under this alternative include: (1) Combined Radiation Environments for Survivability Testing (CREST) facility, which would replace the Annular Core Research Reactor (ACRR), which is reaching its end-of-life. Because the CREST facility would expand the capabilities and support additional missions compared to the existing ACRR, it would be proposed under the Expanded Operations Alternative; and (2) Next Generation Pulsed Power Facility, which would address important nuclear weapon primary and secondary physics questions and would produce large x-ray and neutron outputs that would help certify weapons survivability in hostile environments in larger test objects than possible today. Such a capability does not currently exist at SNL/NM.

In the Draft SNL/NM SWEIS, NNSA will identify and analyze other actions and specific projects that could expand the capabilities at SNL/NM.

Other Alternatives

Although the 1999 SNL/NM SWEIS included a Reduced Operations Alternative, NNSA does not plan to analyze such an alternative in the new SNL/NM SWEIS. NNSA does not consider a reduction in operations to be a reasonable alternative under NEPA because it does not meet the purpose and need for agency action. That is, under a reduced operations alternative, NNSA would not be able to meet its essential mission needs for the foreseeable future. NNSA welcomes comments on this and any other alternative the public thinks are reasonable and should be analyzed in the SWEIS.

Preliminary Identification of Environmental Issues

The issues listed below have been identified for analysis in the SNL/NM SWEIS. The list is tentative and intended to facilitate public comment on the scope of the document. It is not intended to be all inclusive, nor does it imply any predetermination of potential impacts. NNSA invites suggestions for the addition or deletion of items on this list.

• Potential effects on the public and workers from exposures to radiological and hazardous materials during normal operations, construction, reasonably foreseeable accidents (including from natural phenomena hazards), and intentional destructive acts;

• Impacts on surface water, groundwater, floodplain and wetlands, and on water use and quality;

• Impacts on air quality from potential releases of radiological and non-radiological pollutants;

• Impacts associated with climate change, including greenhouse gas emissions and reductions, potential effects of climate change on analyzed alternatives, and potential mitigation measures;

• Impacts to plants and animals and their habitats, including species that are federally or state listed as threatened or endangered, or of special concern;

• Impacts on physiography, topography, geology, and soil characteristics;

• Impacts to cultural resources, such as those that are historic, prehistoric, archaeological, scientific, or paleontological;

• Socioeconomic impacts to affected communities;

• Environmental justice impacts, particularly whether or not activities at SNL/NM would have a disproportionately high and adverse effect on minority and/or low-income populations;

• Impacts on land use and applicable plans and policies;

• Impacts from traffic and transportation of radiological and hazardous materials/waste;

• Pollution prevention and materials, and waste management practices and activities;

• Impacts of SNL/NM facilities on visual aesthetics of the surrounding communities and ambient environment;

• Impacts of noise and vibration on the surrounding communities and ambient environment;

• Impacts to community services, including fire protection, police protection, schools, and solid waste disposal to landfills;

• Impacts from the use of utilities, including water and electricity consumption, fuel use, sewer discharges, and resource conservation;

• Impacts from site contamination and remediation;

• Unavoidable adverse impacts;

• Environmental compliance and inadvertent releases;

• Energy conservation, renewable energy, and sustainability;

• Short-term uses and long-term productivity;

• Irreversible and irretrievable commitment of resources;

• Cumulative effects of past, present, and reasonably foreseeable future actions; and

• Mitigation commitments.

NEPA Requirements and the SWEIS Process

DOE NEPA implementing regulations at 10 CFR 1021.330(c), state: “[A]s a matter of policy when not otherwise required, DOE shall prepare site-wide EISs for certain large, multiple-facility DOE sites; DOE may prepare EISs or EAs for other sites to assess the impacts of all or selected functions at those sites.” NNSA has determined that preparation of a new SWEIS for SNL/NM is appropriate and is preparing the SNL/NM SWEIS in accordance with NEPA, and CEQ and DOE regulations implementing NEPA (40 CFR parts 1500-1508 and 10 CFR part 1021, respectively).

NNSA will solicit public input at two points in the SNL/NM SWEIS process: during the scoping process announced by this Notice, and after issuance of a draft SNL/NM SWEIS. The scoping process is intended to involve all interested parties, including agencies (federal, state, and local), public interest groups, tribes, local businesses, industry, organizations, and members of the public. Interested parties are invited to participate in the SNL/NM SWEIS process to refine the preliminary alternatives and identify environmental issues for analysis. NNSA will consider all comments received during the Comment Period in defining the scope of the SNL/NM SWEIS. Comments on the proposed scope may be provided verbally at the two public scoping meetings described under the DATES section, or in writing by any of the means described under the ADDRESSES section. The scoping meetings will provide the public with an opportunity to present comments, ask questions, and discuss issues with NNSA officials regarding the SNL/NM SWEIS.

Following the scoping process announced in this Notice, and after consideration of comments received during scoping, NNSA will prepare a Draft SNL/NM SWEIS. NNSA anticipates issuing the Draft SNL/NM SWEIS to the public in 2024. NNSA will announce the availability of the Draft SNL/NM SWEIS in the Federal Register and local media outlets. NNSA will consider comments received on the Draft document and will address them in the Final SNL/NM SWEIS, which the NNSA anticipates issuing to the public in 2025. NNSA will then issue a ROD no sooner than 30 days after publication by the Environmental Protection Agency of a Notice of Availability of the Final SNL/NM SWEIS.

Preparation of the SNL/NM SWEIS will require participation of other federal agencies. Accordingly, NNSA invites agencies with jurisdiction by law or special expertise to participate in the SNL/NM SWEIS process. NNSA has invited the U.S. Air Force and U.S. Forest Service to participate as cooperating agencies in preparation of the document.

Signing Authority

This document of the Department of Energy was signed on April 17, 2023, by Jill Hruby, Under Secretary for Nuclear Security and Administrator, NNSA, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 18, 2023.
Treena V. Garrett,
Federal Register Liaison Officer, U.S. Department of Energy.

[FR Doc. 2023-08459 Filed 4-20-23; 8:45 am]

BILLING CODE 6450-01-P